DEPARTMENT OF THE INTERIOR

[PPWOIRADA1/PRCRFRFR6.XZ0000/PR.RIRAD1801.00.1; OMB Control Number 1093-New]

Agency Information Collection Activities; DOI Generic Clearance for Crowdsourcing and Citizen Science Activities

AGENCY: Interior.

ACTION: Notice of information collection; request for comment.

SUMMARY: In accordance with the Paperwork Reduction Act of 1995, the Department of the Interior (DOI, Interior) are proposing a new information collection.

DATES: Interested persons are invited to submit comments on or before May 18, 2021.

ADDRESSES: Send your comments on this information collection request (ICR) by mail to Jeffrey Parrillo, Departmental Information Collection Clearance Officer, 1849 C Street, NW Washington, DC 20240; or by email to DOI-PRA@ios.doi.gov. Please reference Office of Management and Budget (OMB) Control Number 1093-New Citizen Science in the subject line of your comments.

FOR FURTHER INFORMATION CONTACT: To request additional information about this ICR, contact Jeffrey Parrillo, Departmental Information Collection Clearance Officer, 1849 C Street NW, Washington, DC 20240; by telephone at 202-208-7072, or by email to DOI-PRA@ios.doi.gov.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Interior is requesting a new generic clearance process that would significantly streamline OMB approval enabling its bureaus and offices to conduct crowdsourcing and citizen science and crowdsourcing activities. This new generic clearance is needed in order to be more responsive to the Crowdsourcing and Citizen Science Act (15 U.S.C. 3724), as well as the following Secretarial Orders:

• 3347, “Conservation Stewardship and Outdoor Recreation”;

• 3356, “Hunting, Fishing, Recreational Shooting, and Wildlife Conservation Opportunities and Coordination with States, Tribes, and Territories”;

• 3357, “Conservation Stewardship and Outdoor Recreation”;

• 3366, “Increasing Recreational Opportunities on Lands and Waters Managed by the U.S. Department of the Interior”; and

• 3370, “Improving Conservation Stewardship of and Increasing Public Access to Urban National Wildlife Refuges.”

Interior relies on scientific information such as those data contributed through crowdsourcing and citizen science activities. Crowdsourcing and citizen science is scientific research conducted, in whole or in part, by amateur (or nonprofessional) scientists. Crowdsourcing and citizen science projects enable participants to make a direct contribution to research, increase their scientific understanding, and directly immerse themselves in learning about environmental issues. Additional crowdsourcing and citizen science projects help provide opportunities to maximize the amount of available data that can be analyzed by professional researchers.

Crowdsourcing and citizen science techniques will allow Interior and its bureaus to collect qualitative and quantitative data that might help inform land management decisions, scientific research, assessments, or environmental screening; validate environmental models or tools; or enhance the quantity and quality of data collected across the country's diverse communities and ecosystems to support the Department's mission. Information gathered under this generic clearance will be used by Interior's bureaus to support the activities listed above and might provide unprecedented avenues for conducting breakthrough research.

The generic clearance will apply to any DOI crowdsourcing and citizen science collections designed to furnish usable information to DOI managers and planners concerning approved research efforts in areas managed by the DOI. To qualify for the DOI generic clearance, each information request must show clear ties to DOI management and planning needs in areas managed by the Interior and its bureaus. All collections must be reviewed by the bureau and Department Information Collection Clearance Officers and approved by OMB before a collection is administered.

Interior encourages its bureaus to collaborate with non-federal entities to use crowdsourcing and citizen science and crowdsourcing methods to collect this type of information. All collections must comply with Agency policies and the scope of this generic clearance. The scope of this generic clearance includes, but is not limited to, the natural, applied, social, and cultural sciences as they apply to crowdsourcing and citizen science activities. New collections not within the scope of this generic clearance will require a separate information collection request to OMB for approval.

Title of Collection: DOI Generic Clearance for Crowdsourcing and Citizen Science Activities.

OMB Control Number: 1093-New.

Form Number: None.

Type of Review: New.

Respondents/Affected Public: Individuals/households; private sector; and, State, local, and Tribal governments.

Total Estimated Number of Annual Respondents: 1,000,000.

Total Estimated Number of Annual Responses: 3,000,000.

Estimated Completion Time per Response: 5 minutes.

Total Estimated Number of Annual Burden Hours: 250,000.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2021-05695 Filed 3-18-21; 8:45 am]

BILLING CODE 4334-63-P